DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project Survey of Evidence-Based Practices in State Medicaid Plans: Coverage Structures, Access and Challenges—NEW

The Substance Abuse and Mental Health Services Administration (SAMHSA) is conducting a survey to gather information about current and planned State Medicaid activities and policies related to six mental health/substance abuse evidence-based practices (EBPs). This survey is part of a five-year project to increase attention to and understanding of Medicaid mental health and substance abuse service issues among State Medicaid and Mental Health/Substance Abuse Directors, as well as improve the effectiveness of State Medicaid mental health services.

The purpose of the survey is to determine the overall management and delivery of mental health and substance abuse services within Medicaid and the use of six specific evidence-based practices. The information provided through the survey will be vital to increasing awareness and understanding of Medicaid mental health/substance abuse evidence-based practice activities. This information will also be used to develop numerous products to help State Medicaid and Mental Health/Substance Abuse Directors adopt, deliver, and refine existing policies about mental health and substance abuse EBPs.

A survey will be sent to the director of each State Medicaid office in the 50 States and the District of Columbia, with responses expected over a four-week period. The survey contains a total of 116 questions on the overall management and delivery of mental health and substance abuse services within Medicaid and on the implementation of six EBPs within the State Medicaid program. However, respondents will complete part or all of the survey, depending on how many of the six EBPs are being implemented in their State. The survey will be sent electronically to State Medicaid Directors, and they may respond by e-mail or facsimile. To reduce burden, prior to administering the survey several survey questions will be pre-completed based on existing information, as available.

Below is the table of the estimated total burden hours:

Respondent | Number of respondents | Number of responses per respondent | Average burden hour | Total burden hours
State Medicaid Directors | 51 | 1 | 1 | 51

Send comments to Summer King, SAMHSA Reports Clearance Officer, Room 7-1044, One Choke Cherry Road, Rockville, MD 20857 and e-mail her a copy at summer.king@samhsa.hhs.gov. Written comments should be received within 60 days of this notice.

Dated: July 10, 2009.
Dennis O. Romero,
Deputy Executive Officer and Deputy Director, Office of Program Services.

[FR Doc. E9-16768 Filed 7-14-09; 8:45 am]

BILLING CODE 4162-20-P